DEPARTMENT OF JUSTICE

Antitrust Division

Notice Pursuant to the National Cooperative Research and Production Act of 1993—Spoken Dialogue Interfaces for Cars

Notice is hereby given that, on October 3, 2003, pursuant to Section 6(a) of the National Cooperative Research and Production Act of 1993, 15 U.S.C. 4301 et seq. (“the Act”), Spoken Dialogue Interfaces for Cars has filed written notifications simultaneously with the Attorney General and the Federal Trade Commission disclosing changes in its membership status. The notifications were filed for the purpose of extending the Act's provisions limiting the recovery of antitrust plaintiffs to actual damages under specified circumstances. Specifically, The Board of Trustees of the Leland Stanford Junior University, Palo Alto, CA; and SRI-International, Speech Technology and Research Lab, Menlo Park, CA have been added as parties to this venture .

No other changes have been made in either the membership or planned activity of the group research project. Membership in this group research project remains open, and Spoken Dialogue Interfaces for Cars intends to file additional written notification disclosing all changes in membership.

On July 4, 2003, Spoken Dialogue Interfaces for Cars filed its original notification pursuant to Section 6(a) of the Act. The Department of Justice published a notice in the Federal Register pursuant to Section 6(b) of the Act on September 8, 2003 (68 FR 52959).

Dorothy B. Fountain,
Deputy Director of Operations Antitrust Division.

[FR Doc. 03-28287 Filed 11-10-03; 8:45 am]

BILLING CODE 4410-11-M